ENVIRONMENTAL PROTECTION AGENCY

[FRL-7501-8]

A Review of the Reference Dose and Reference Concentration Processes

AGENCY: Environmental Protection Agency (EPA).

ACTION: Notice of availability of a final report.

SUMMARY: The U.S. Environmental Protection Agency's (EPA) Risk Assessment Forum (RAF) announces the availability of a final report, A Review of the Reference Dose and Reference Concentration Processes (EPA/630/P-02/002F, December 2002).

ADDRESSES: The document is available electronically through the Risk Assessment Forum's Web site (http://cfpub.epa.gov/ncea/raf/recordisplay.cfm?deid=55365 ). A limited number of paper copies will be available from the EPA's National Service Center for Environmental Publications (NSCEP), P.O. Box 42419, Cincinnati, OH 45242; telephone: 1-800-490-9198 or 513-489-8190; facsimile: 513-489-8695. Please provide your name and mailing address and the title and EPA number of the requested publication.

FOR FURTHER INFORMATION CONTACT: Dr. Carole Kimmel, National Center for Environmental Assessment, (8623D), U.S. Environmental Protection Agency, 1200 Pennsylvania Avenue, NW., Washington, DC 20460; telephone: 202-564-3307; facsimile: 202-565-0078; email: kimmel.carole@epa.gov.

SUPPLEMENTARY INFORMATION: This report, entitled, “A Review of the Reference Dose and Reference Concentration Processes,” summarizes the review and deliberations of the Risk Assessment Forum's RfD/RfC Technical Panel and its recommendations for improvements in the process of deriving reference values, including setting less than lifetime as well as chronic reference values. It discusses revisions to the overall framework for the derivation of reference values that broaden and expand the information considered in setting reference values. The document is a review, not guidance, and it evaluates the current state-of-the-art for hazard characterization with a focus on protection of potentially sensitive subpopulations. The report make a number of recommendations that should be considered in the implementation of changes in the current process and/or development of needed guidance. The Technical Panel views the RfD/RfC process as one that should be continually evolving as new information becomes available and new scientific and risk assessment approaches are developed. This does not mean that current RfDs or RfCs are invalid, but these new scientific issues should be included in the process of re-evaluating current reference values. As a follow-up to the recommendation for deriving less than lifetime reference values, the report includes a review of current testing guideline protocols to determine what data are collected that can be used in setting these reference values. The Technical Panel has provided specific recommendations for deriving reference values and the development of guidance in some cases and more general conclusions and recommendations in others. Case studies are included to illustrate the recommendations of the Technical Panel.

Dated: May 15, 2003.
Peter W. Preuss,
Director, National Center for Environmental Assessment.

[FR Doc. 03-12762 Filed 5-20-03; 8:45 am]

BILLING CODE 6560-50-P